DEPARTMENT OF COMMERCE

National Oceanic and Atmospheric Administration

[RTID 0648-XC385]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day meeting of its Reef Fish Advisory Panel (AP).

DATES: The meeting will take place Tuesday, October 11, 2022, from 8:30 a.m. to 5:30 p.m., EST.

ADDRESSES: The in-person meeting will take place at the Gulf Council office.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, October 11, 2022; 8:30 a.m.-5:30 p.m., EST

The meeting will begin with Introductions of Members and Adoption of Agenda, Approval of Minutes from the January 5-6, 2022 meeting, review of Scope of Work and Reef Fish and Individual Fishing Quota (IFQ) Program Landings.

The AP will receive a presentation on the Florida Keys National Marine Sanctuary Expansion Proposal; followed by a review and discussion of Public Hearing Draft Amendment 54: Modifications to the Greater Amberjack Catch Limits and Sector Allocations, and other Rebuilding Plan Modifications. The AP will then receive a summary of the SEDAR 64 Interim Analysis for Southeastern U.S. Yellowtail Snapper and SSC Recommendations, and then a review of draft options for Reef Fish Amendment 56: Modifications to Gulf of Mexico Gag Grouper Stock Status Determination Criteria, Sector Allocation, Catch Limits, and Fishing Seasons.

Next, the AP will review and discuss the SEDAR 68 Operational Assessment for Gulf of Mexico Scamp, followed by a discussion of Management Options for Gray Triggerfish Commercial Trip Limits and of For-Hire Trip Declaration Modification. The AP will then discuss the Development of Electronic Reporting for the Commercial Coastal Logbook Program, review a presentation on Modifications to Greater Amberjack Recreational and Commercial Management Measures, and then receive Public Comment.

Lastly, the AP will discuss any Other Business items, including U.S. Coast Guard Inspection Requirements for Gulf Federal Commercial Reef Fish Permits.

—Meeting Adjourns

The meeting will be also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: September 14, 2022.
Rey Israel Marquez,
Acting Deputy Director, Office of Sustainable Fisheries, National Marine Fisheries Service.

[FR Doc. 2022-20322 Filed 9-19-22; 8:45 am]

BILLING CODE 3510-22-P